DEPARTMENT OF COMMERCE

National Oceanic and Atmospheric Administration

50 CFR Part 648

[Docket No. 140117052-4402-02]

RIN 0648-XE347

Fisheries of the Northeastern United States; Summer Flounder Fishery; Quota Transfer

AGENCY: National Marine Fisheries Service (NMFS), National Oceanic and Atmospheric Administration (NOAA), Commerce.

ACTION: Temporary rule; quota transfer.

SUMMARY: NMFS announces that the States of North Carolina and Maine and the Commonwealth of Virginia are transferring portions of their 2015 commercial summer flounder quotas to the State of Connecticut. These quota adjustments are necessary to comply with the Summer Flounder, Scup and Black Sea Bass Fishery Management Plan quota transfer provision. This announcement informs the public of the revised commercial quota for each state involved.

DATES: Effective December 21, 2015, through December 31, 2015.

FOR FURTHER INFORMATION CONTACT: Elizabeth Scheimer, Fishery Management Specialist, (978)-281-9236.

SUPPLEMENTARY INFORMATION: Regulations governing the summer flounder fishery are in 50 CFR 648.100 through 50 CFR 648.110. The regulations require annual specification of a commercial quota that is apportioned among the coastal states from Maine through North Carolina. The process to set the annual commercial quota and the percent allocated to each state are described in § 648.102.

The final rule implementing Amendment 5 to the Summer Flounder Fishery Management Plan, as published in the Federal Register on December 17, 1993 (58 FR 65936), provided a mechanism for transferring summer flounder commercial quota from one state to another. Two or more states, under mutual agreement and with the concurrence of the NMFS Greater Atlantic Regional Administrator, can transfer or combine summer flounder commercial quota under § 648.102(c)(2). The Regional Administrator is required to consider the criteria in § 648.102(c)(2)(i) in the evaluation of requests for quota transfers or combinations.

Connecticut is receiving the following 2015 summer flounder commercial quota transfers: 10,000 lb (4,534 kg) from North Carolina, 10,000 lb (4,534 kg) from Virginia, and 5,200 lb (2,359 kg) from Maine. These transfers were prompted by state officials in Connecticut to ensure their commercial summer flounder quota is not exceeded. The Regional Administrator has determined that the criteria set forth in § 648.102(c)(2)(i) are met. The revised summer flounder quotas for calendar year 2015 are: North Carolina, 2,966,243 lb (1,345,465 kg); Maine, 65 lb (29 kg); Virginia, 2,391,568 lb (1,084,796 kg); and Connecticut, 275,045 lb (124,758 kg), based on the final 2015 Summer Flounder, Scup and Black Sea Bass Specifications and Commercial Summer Flounder Quota Adjustments, as published in the Federal Register on December 30, 2014 (79 FR 78311).

Classification

This action is taken under 50 CFR part 648 and is exempt from review under Executive Order 12866.

Authority: 16 U.S.C. 1801 et seq.

Dated: December 17, 2015.
Alan D. Risenhoover,
Director, Office of Sustainable Fisheries, National Marine Fisheries Service.

[FR Doc. 2015-32109 Filed 12-21-15; 8:45 am]

BILLING CODE 3510-22-P